NATIONAL SCIENCE FOUNDATION

Advisory Committee for Engineering; Notice of Meeting

In accordance with Federal Advisory Committee Act (Pub. L. 92-463, as amended), the National Science Foundation announces the following meeting:

Name: Engineering Advisory Committee Meeting, #1170.

Date/Time: October 16, 2013: 11:15 p.m. to 5:30 p.m., October 17, 2013: 8:30 a.m. to 12:45 p.m.

Place: National Science Foundation, 4201 Wilson Boulevard, Suite 1235, Arlington, Virginia 22203.

Type of Meeting: Open.

Contact Person: Deborah Young, National Science Foundation, 4201 Wilson Boulevard, Suite 505, Arlington, Virginia 22203 703/292-8300.

Purpose of Meeting: To provide advice, recommendations and counsel on major goals and policies pertaining to engineering programs and activities.

Agenda:

Wednesday, October 16, 2013

• Directorate for Engineering (ENG) Update

• Assistant Director Discussion on Bilateral Collaborations

• 2-DARE (Emerging Frontiers in Research and Innovation initiative)

• NSF Strategic Plan

• Proposal Submission—“One Window”

Thursday, October 17, 2013

• Perspectives from the Office of the Director

• Industrial Innovation and Partnerships Overview

• Industrial Innovation and Partnerships Committee of Visitors Report

• Service Innovation

• Advisory Committee Member Topics

• Roundtable on ENG Strategic Activities and Recommendations

• Closing Remarks, and Wrap Up

Dated: September 23, 2013.
Susanne Bolton,
Committee Management Officer.

[FR Doc. 2013-23457 Filed 9-25-13; 8:45 am]

BILLING CODE 7555-01-P